FEDERAL DEPOSIT INSURANCE CORPORATION

RIN 3064-ZA03

Extension of Comment Period for the Request for Information on the FDIC's Deposit Insurance Application Process

AGENCY: Federal Deposit Insurance Corporation (FDIC).

ACTION: Notice and request for information; extension of comment period.

SUMMARY: The FDIC is extending the public comment period for its request for information on the FDIC's deposit insurance application process until March 31, 2019.

DATES: The comment period for the notice published on December 12, 2018 (83 FR 63868), regarding the request for information on the FDIC's deposit insurance application process, is extended from February 11, 2019, to March 31, 2019.

ADDRESSES: You may submit comments, identified by RIN 3064-ZA03, by any of the methods identified in the notice.¹ Please submit your comments using only one method.

¹ See 83 FR 63868 (December 12, 2018).

FOR FURTHER INFORMATION CONTACT:

RMS Contacts: Donald Hamm, Special Advisor, (202) 898-3528, DHamm@FDIC.gov.

Legal Contacts: Annmarie Boyd, Counsel, (202) 898-3714, ABoyd@FDIC.gov; Catherine Topping, Counsel, (202) 898-3975, CTopping@FDIC.gov; Federal Deposit Insurance Corporation, 550 17th Street NW, Washington, DC 20429.

SUPPLEMENTARY INFORMATION: On December 12, 2018, the FDIC published in the Federal Register a request for information seeking comments from interested parties on all aspects of the deposit insurance application process. The request is part of the FDIC's efforts to enhance transparency, efficiency, and accountability regarding the application process.

The FDIC seeks comments from interested parties on all aspects of the deposit insurance application process, including guidance and other issuances, the steps in the application process, and communications with applicants, other interested parties, and the general public. In addition to any general comments, the FDIC invites comments in response to the specific topics and questions presented in the request for information.

The extension of the comment period will allow interested parties additional time to prepare comments and provide meaningful feedback on the request for information. Accordingly, the comment period for the proposal is extended from February 11, 2019, to March 31, 2019.

Dated at Washington, DC, on February 7, 2019.
Federal Deposit Insurance Corporation.
Robert E. Feldman,
Executive Secretary.

[FR Doc. 2019-02100 Filed 2-12-19; 8:45 am]

BILLING CODE 6714-01-P